DEPARTMENT OF THE INTERIOR

National Park Service

Notice of Inventory Completion for Native American Human Remains and Associated Funerary Objects in the Possession of Pomona College, Claremont, CA

AGENCY: National Park Service, Interior.

ACTION: Notice.

Notice is hereby given in accordance with provisions of the Native American Graves Protection and Repatriation Act (NAGPRA), 43 CFR 10.9, of the completion of an inventory of human remains and associated funerary objects in the possession of Pomona College, Claremont, CA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by Pomona College Museum staff and a NAGPRA consultant in consultation with representatives of the Ak Chin Indian Community of the Maricopa (Ak Chin) Indian Reservation, Arizona; Cocopah Tribe of Arizona; Colorado River Indian Tribes of the Colorado River Indian Reservation, Arizona and California; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

At an unknown date, human remains representing one individual were recovered from the Laveen site, Section 34, Maricopa County, AZ, by an unknown person. In 1951, Dr. E.H. Parker donated the remains to Pomona College. There is no information indicating how Dr. Parker acquired the remains. No known individual was identified. The one associated funerary object is a red-on-buff pottery jar, which held the cremated remains. The pottery jar dates to the Santa Cruz phase (A.D. 700-900) of the Hohokam culture of Arizona.

At an unknown date, human remains representing one individual were removed from Casa Grande, Pinal County, AZ, by an unknown person. In 1951, Dr. E.H. Parker donated the remains to Pomona College. There is no information indicating how Dr. Parker acquired the remains. No known individual was identified. The one associated funerary object is a Gila Red pottery jar, which held the cremated remains. The pottery jar dates to the Soho phase (A.D. 1150-1300) of the Hohokam culture of Arizona.

At an unknown date, human remains representing one individual were removed from an unknown location in central Arizona by an unknown person. In 1951, Dr. E.H. Parker donated the remains to Pomona College. There is no information indicating how Dr. Parker acquired the remains. No known individual was identified. The one associated funerary object is a red-on-buff pottery jar, which held the cremated remains. The pottery jar dates to the Santa Cruz phase (A.D. 700-900), Colonial period, of the Hohokam culture of Arizona.

At an unknown date, human remains representing one individual were recovered from the Tonto Basin, Gila County, AZ, by an unknown person. In 1951, Dr. E.H. Parker donated the remains to Pomona College. There is no information indicating how Dr. Parker acquired the remains. No known individual was identified. The four associated funerary objects are shell rings, which are dated to the Colonial-Classic period (A.D. 550-1450) of Hohokam culture.

At an unknown date, human remains representing one individual were recovered from Gila Bend, Maricopa County, AZ, by an unknown person. In 1951, Dr. E.H. Parker donated the remains to Pomona College. There is no information indicating how Dr. Parker acquired the remains. No known individual was identified. The one associated funerary object is a salt-smudged, red pottery jar, which held the cremated remains. The pottery jar dates to the Civano phase (A.D. 1300-1450) of the Hohokam culture of Arizona.

In their book, Those Who Came Before: Southwestern Archeology in the National Park System (University of Arizona Press, 1983), Robert H. and Florence C. Lister describe the practices and accomplishments of the Hohokam Indians. Cremation was a common mortuary practice of the Hohokam. Ashes, unconsumed pieces of bone, and the damaged or destroyed funerary offerings of pottery or stone were buried in pits or trenches. The Hohokam are credited with creating simple tools, utilitarian objects, religious, and ornamental objects made from shell obtained through trade from the Gulf of California and the Pacific Coast.

These ethnographic materials and technology adaptations indicate affiliation to the historic and present-day Piman and O’odham cultures. Historic O’odham groups (Ak-Chin Indian Community of the Ak-Chin Indian Reservation, Arizona; Gila River Indian Community of the Gila River Indian Reservation, Arizona; Salt River Pima-Maricopa Indian Community of the Salt River Reservation, Arizona; and the Tohono O’odham Nation of Arizona) have a strong cultural affiliation with the prehistoric Hohokam who occupied the middle Gila Valley and surrounding areas. Similarities in settlement patterns, economic systems, architecture, and material culture indicate a close relationship between the Hohokam and O’odham groups.

The Cocopah Tribe of Arizona also claims affiliation with the Hohokam, according to the Southwest Indian Relief Council Web site. About 3,000 Cocopah lived in the Southwest in the late 1600s. Like the Hohokam, the Cocopah became successful at irrigated farming.

The oral traditions of the Hopi Tribe and the Pueblo of Zuni provide evidence that the Hopi and Zuni are culturally affiliated with the Hohokam. The human remains and associated funerary objects were removed from an area historically occupied by these tribes.

Based on the above-mentioned information, officials of the Pomona College Museum of Art have determined that, pursuant to 43 CFR 10.2 (d)(1), the human remains listed above represent the physical remains of five individuals of Native American ancestry. Officials of Pomona College Museum of Art, also have determined that, pursuant to 43 CFR 10.2 (d)(2), the eight objects listed above are reasonably believed to have been placed with or near individual human remains at the time of death or later as part of the death rite or ceremony. Lastly, officials of the Pomona College Museum of Art, have determined that, pursuant to 43 CFR 10.2 (e), there is a relationship of shared group identity that can be reasonably traced between these Native American human remains and associated funerary objects and the Ak Chin Indian Community of the Maricopa (Ak Chin) Indian Reservation, Arizona; Cocopah Tribe of Arizona; Colorado River Indian Tribes of the Colorado River Indian Reservation, Arizona and California; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

This notice has been sent to officials of the Ak Chin Indian Community of the Maricopa (Ak Chin) Indian Reservation, Arizona; Cocopah Tribe of Arizona; Colorado River Indian Tribes of the Colorado River Indian Reservation, Arizona and California; Gila River Indian Community of the Gila River Indian Reservation, Arizona; Hopi Tribe of Arizona; Salt River Pima-Maricopa Indian Community of the Salt River Reservation, Arizona; Tohono O'odham Nation of Arizona; and Zuni Tribe of the Zuni Reservation, New Mexico. Representatives of any other Indian tribe that believes itself to be culturally affiliated with these human remains and associated funerary objects should contact Marjorie L. Harth, Director, Pomona College Museum of Art, 333 College Way, Claremont, CA 91711-6344, telephone (909) 607-2688, before October 15, 2002. Repatriation of the human remains and associated funerary objects to the Ak Chin Indian Community of the Maricopa (Ak Chin) Indian Reservation, Arizona; Cocopah Tribe of Arizona; Colorado River Indian Tribes of the Colorado River Indian Reservation, Arizona and California; Gila River Indian Community of the Gila River Indian Reservation, Arizona; Hopi Tribe of Arizona; Salt River Pima-Maricopa Indian Community of the Salt River Reservation, Arizona; Tohono O'odham Nation of Arizona; and Zuni Tribe of the Zuni Reservation, New Mexico may begin after that date if no additional claimants come forward.

Dated: July 18, 2002
C. Timothy McKeown,
Acting Manager, National NAGPRA Program

[FR Doc. 02-23126 Filed 9-11-02; 8:45 am]

BILLING CODE 4310-70-S